DEPARTMENT OF TRANSPORTATION

Federal Aviation Administration

14 CFR Part 71

[Airspace Docket No. 99-ANE-91]

RIN 2120-AA66

Modification of the East Coast Low Airspace Area

AGENCY: Federal Aviation Administration (FAA), DOT.

ACTION: Final rule.

SUMMARY: This action amends the East Coast Low Airspace Area. Specifically, this action modifies the East Coast Low Airspace Area by extending the boundaries further east, south, and southwest of the Nantucket Airport, MA, and lowering the controlled airspace floor in this new area to 2,000 feet mean sea level (MSL). The FAA is taking this action to provide additional controlled airspace for aircraft operations arriving and departing the Nantucket Airport.

EFFECTIVE DATE: 0901 UTC, July 24, 2000.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION:

Background

On March 14, 2000, the FAA published a proposal in the Federal Register, to amend the East Coast Low Airspace Area (65 FR 13705). Interested parties were invited to participate in this rulemaking effort by submitting written comments on the proposal. In response to the notice, the FAA received no comments on this action. Except for editorial changes, this rule is the same as that proposed in the notice.

The Rule

This action amends 14 CFR part 71 by modifying the East Coast Low Airspace Area. This action extends the present airspace boundaries further east, south, and southwest of the Nantucket Airport and lowers the controlled floor in this area to 2,000 feet MSL. This modification will provide additional airspace to allow for more efficient control of Nantucket Airport arrivals and departures.

Offshore airspace area designations are published in paragraph 6007 of FAA Order 7400.9G, which is dated September 1, 1999, and was effective on September 16, 1999. FAA Order 7400.9G is incorporated by reference in 14 CFR 71.1. The offshore airspace area described in this document will be published in the Order.

The FAA has determined that this regulation only involves an established body of technical regulations for which frequent and routine amendments are necessary to keep them operationally current. Therefore this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

International Civil Aviation Organization (ICAO) Considerations

Since part of this rule effects navigable airspace outside the United States, the notice of proposed rulemaking was submitted to the Department of State and the Department of Defense in accordance with the ICAO International Standards and Recommended Practices.

The application of International Standards and Recommended Practices by the FAA, Office of Air Traffic Airspace Management, in areas outside U.S. domestic airspace, is governed by the Convention on International Civil Aviation. Specifically, the FAA is governed by Article 12 and Annex 11 of the Convention, which pertain to the establishment of necessary air navigational facilities and services to promote the safe, orderly, and expeditious flow of civil air traffic. The purpose of Article 12 and Annex 11 is to ensure that civil aircraft operations on international air routes are performed under uniform conditions.

The International Standards and Recommended Practices in Annex 11 apply to airspace under the jurisdiction of a contracting state, derived from ICAO. Annex 11 provisions apply when air traffic services are provided and a contracting state accepts the responsibility of providing air traffic services over high seas or in airspace of undetermined sovereignty. A contracting state accepting this responsibility may apply the International Standards and Recommended Practices that are consistent with standards and practices utilized in its domestic jurisdiction.

In accordance with Article 3 of the Convention, state-owned aircraft are exempt from the Standards and Recommended Practices of Annex 11. The United States is a contracting state to the Convention. Article 3(d) of the Convention provides that participating state aircraft will be operated in international airspace with due regard for the safety of civil aircraft.

Because this amendment involves, in part, the designation of navigable airspace outside of the United States, the Administrator has consulted with the Secretary of State and the Secretary of Defense in accordance with the provisions of Executive Order 10854.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 6007 Offshore Airspace Areas

* * * * *

East Coast Low [Revised]

That airspace extending upward from 2,000 feet MSL bounded on the west and north by a line 12 miles from and parallel to the U.S. shoreline and on the south and east by a line beginning at lat. 39°25′46″ N., long. 74°02′34″ W.; to lat. 39°02′05″ N., long. 73°39′30″ W.; to lat. 40°04′20″ N., long. 72°30′00″ W.; to lat. 40°37′14″ N., long. 72°30′00″ W.; and that airspace bounded on the west and north by a line 12 miles from and parallel to the U.S. shoreline and on the south and east by a line beginning at lat. 40°41′00″ N., long. 72°17′00″ W., thence along the northern boundary of Warning Areas W-106B and W-105A to lat. 40°58′33″ N., long. 70°59′00″ W.; to lat. 40°48′30″ N., long. 70°30′00″ W.; to lat. 40°59′00″ N., long. 69°40′00″ W.; to lat. 41°30′00″ N., long. 69°10′00″ W.; to lat. 42°05′00″ N., long. 69°30′00″ W.; to lat. 42°17′00″ N., long. 69°49′30″ W.; to lat. 42°17′00″ N., long. 70°00′00″ W.; to lat. 43°17′00″ N., long. 70°00′00″ W.; to lat. 43°33′56″ N., long. 69°29′12″ W.

* * * * *

Issued in Washington, DC, on June 15, 2000.
Reginald C. Matthews,
Manager, Airspace and Rules Division.

[FR Doc. 00-15811 Filed 6-21-00; 8:45 am]

BILLING CODE 4910-13-P